DEPARTMENT OF ENERGY

Federal Energy Regulatory Commission

Combined Notice of Filings #3

July 30, 2015.

Take notice that the Commission received the following electric rate filings:

Docket Numbers: ER10-2353-007; ER10-2876-013; ER10-2878-012; ER10-2354-006; ER10-2355-007; ER10-2879-012; ER10-2384-006; ER10-2383-006; ER10-2880-012; ER11-2107-007; ER11-2108-007; ER10-2888-016; ER13-1745-007; ER13-1803-008; ER13-1788-007; ER13-1789-007; ER13-1790-008; ER10-2896-012; ER10-2913-012; ER13-1791-007; ER13-1746-009; ER13-1799-007; ER13-1801-007; ER13-1802-007; ER10-2916-012; ER10-2915-012; ER12-1525-012; ER12-2019-011; ER10-2266-003; ER12-2398-011; ER11-3459-011; ER10-2931-013; ER13-1965-010; ER10-2969-012; ER11-4351-007; ER11-4308-016; ER11-2805-015; ER10-1580-014; ER10-2382-006; ER11-2856-017; ER10-2356-006; ER10-2357-006; ER13-2107-007; ER13-2020-007; ER13-2050-007; ER14-2820-006; ER14-2821-006; ER11-2857-017; ER10-2359-005; ER10-2360-006; ER10-2369-005; ER10-2947-012; ER10-2381-005; ER10-2575-005; ER10-2361-006.

Applicants: Lookout Windpower, LLC, Louisiana Generating LLC, Middletown Power LLC, Midway-Sunset Cogeneration Company, Midwest Generation LLC, Montville Power LLC, Mountain Wind Power, LLC, Mountain Wind Power II LLC, NEO Freehold-Gen LLC, North Community Turbines LLC, North Wind Turbines LLC, Norwalk Power LLC, NRG Bowline LLC, NRG California South LP, NRG Canal LLC, NRG Chalk Point LLC, NRG Delta LLC, NRG Energy Center Dover LLC, NRG Energy Center Paxton LLC, NRG Florida LP, NRG Marsh Landing LLC, NRG Potomac River LLC, NRG Power Midwest LP, NRG REMA LLC, NRG Rockford LLC, NRG Rockford II LLC, NRG Solar Alpine LLC, NRG Solar Avra Valley LLC, NRG Solar Blythe LLC—NRG Solar Borrego I LLC, NRG Solar Roadrunner LLC, NRG Sterlington Power LLC, NRG Wholesale Generation LP, Oswego Harbor Power LLC, Pinnacle Wind, LLC, Reliant Energy Northeast LLC, RRI Energy Services, LLC, Saguaro Power Company, a Limited Partnership, San Juan Mesa Wind Project, LLC, Sand Drag LLC, Sierra Wind, LLC, Sleeping Bear, LLC, Solar Partners I, LLC, Solar Partners II, LLC, Solar Partners VIII, LLC, Spring Canyon Energy II LLC, Spring Canyon Energy III LLC, Sun City Project LLC—Sunrise Power Company, LLC, TAIR Windfarm, LLC, Taloga Wind, LLC, Vienna Power LLC, Walnut Creek Energy, LLC, Watson Cogeneration Company, Wildorado Wind, LLC.

Description: Notice of Non-Material Change in Status of NRG MBR Sellers [Part 2].

Filed Date: 7/29/15.

Accession Number: 20150729-5191.

Comments Due: 5 p.m. ET 8/19/15.

Docket Numbers: ER15-2313-000.

Applicants: PJM Interconnection, L.L.C.

Description: Section 205(d) Rate Filing: ISA 4209 & Revised ICSA 4037, Queue No. Z1-090; Cancellation of SA 2107 & 3769 to be effective 6/30/2015.

Filed Date: 7/30/15.

Accession Number: 20150730-5170.

Comments Due: 5 p.m. ET 8/20/15.

Docket Numbers: ER15-2314-000.

Applicants: Duke Energy Florida, LLC.

Description: Section 205(d) Rate Filing: City of Winter Park—Amendment to SA No. 144 to be effective 7/1/2015.

Filed Date: 7/30/15.

Accession Number: 20150730-5182.

Comments Due: 5 p.m. ET 8/20/15.

Docket Numbers: ER15-2315-000.

Applicants: Southwest Power Pool, Inc.

Description: Section 205(d) Rate Filing: 1166R25 Oklahoma Municipal Power Authority NITSA and NOA to be effective 7/1/2015.

Filed Date: 7/30/15.

Accession Number: 20150730-5197.

Comments Due: 5 p.m. ET 8/20/15.

Docket Numbers: ER15-2316-000.

Applicants: Entergy Gulf States Louisiana, L.L.C.

Description: Section 205(d) Rate Filing: EGSL-SRMPA 2nd Extension of Interim Agreement to be effective 7/31/2015.

Filed Date: 7/30/15.

Accession Number: 20150730-5206.

Comments Due: 5 p.m. ET 8/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2015.
Nathaniel J. Davis, Sr.,
Deputy Secretary.

[FR Doc. 2015-19301 Filed 8-5-15; 8:45 am]

BILLING CODE 6717-01-P